DEPARTMENT OF COMMERCE

National Oceanic and Atmospheric Administration

50 CFR Part 660

[Docket No. 160808696-7010-02]

RIN 0648-BG86

Magnuson-Stevens Act Provisions; Fisheries Off West Coast States; Pacific Coast Groundfish Fishery; 2017-2018 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: This final rule is effective May 12, 2017.

FOR FURTHER INFORMATION CONTACT: Gretchen Hanshew, phone: 206-526-6147, fax: 206-526-6736, or email: gretchen.hanshew@noaa.gov.

SUPPLEMENTARY INFORMATION:

Electronic Access

This rule is accessible via the Internet at the Office of the Federal Register Web site at https://www.federalregister.gov. Background information and documents are available at the Pacific Fishery Management Council's Web site at http://www.pcouncil.org/.

Background

The Council, in coordination with Pacific Coast Treaty Indian Tribes and the States of Washington, Oregon, and California, recommended changes to current groundfish management measures at its April 6-11, 2017 meeting. The Council recommended taking a portion of the Pacific ocean perch (POP) initially deducted from the ACL that would likely go unharvested in 2017 and making it available to the mothership (MS) and catcher/processor (C/P) sectors of the at-sea Pacific whiting fishery; 3.5 metric tons (mt) to each sector. The Council also recommended a modest increase in sablefish trip limits in the open access fishery for the area north of 36° N. lat. based on the best available fishery data.

Transferring POP to the MS and C/P Sectors

As part of biennial harvest specifications and management measures, annual catch limits (ACLs) are set for non-whiting groundfish species, deductions are made “off-the-top” from the ACL for various sources of mortality (including non-groundfish fisheries that catch groundfish incidentally, also called incidental open access fisheries) and the remainder, the fishery harvest guideline, is allocated among the groundfish fisheries. Regulations at § 660.60(c)(3)(ii) allow NMFS to distribute these “off-the-top” deductions from the ACL to fisheries inseason under certain circumstances. Also, consistent with section 6.5.2 of the PCGFMP, NMFS has the authority to implement management measures to reduce bycatch of non-groundfish species and, under certain circumstances, the measures may be implemented inseason. However, under no circumstances may the intention of such management measures be simply to provide more fish to a different user group or to achieve other allocation objectives.

Pacific whiting fisheries encounter Klamath River Chinook salmon incidentally, particularly when fishing off the central and southern Oregon coast. At its March, 2017 meeting, the Council received the most recent projections of salmon stock status (Preseason Report I) and considered that Klamath River Chinook will not meet escapement goals for 2017 by a historically large margin. At its April meeting the Council recommended complete closure of commercial salmon fisheries off southern Oregon and northern California (approximately 44° N. lat. to 40°10′ N. lat.) and closure of recreational salmon fisheries in similar areas (approximately 42°45′ N. lat. to 40°10′ N. lat.) to protect Klamath River Chinook salmon.

Chinook salmon bycatch in the Pacific whiting fishery varies by latitude, with 81 percent of Chinook being taken when fishing between Cape Falcon (45°46′ N. lat.) and Cape Blanco (42°50′ N. lat.). This is a similar area in which Klamath River Chinook stocks are commonly encountered, where all commercial and recreational salmon fishing in 2017 is closed. At-sea processing of Pacific whiting is currently prohibited south of 42° N. lat. (the Oregon-California border) per regulations at § 660.131(e). Both the MS and C/P sectors expressed willingness to modify operations to avoid Chinook salmon bycatch, but acknowledged that difficulties were likely given their rockfish allocations and historically high Pacific whiting allocations. While moving harvesting operations north to Washington and northern Oregon would likely reduce impacts of the Pacific whiting fishery on Klamath River Chinook, bycatch of POP in the Pacific whiting fisheries has been highest when fishing off Washington.

At the April meeting, the MS sector requested an increase to their POP set-aside to accommodate northern movement of the fleet to reduce harvest of Klamath River Chinook and to prevent closure of the MS sector prior to harvesting their full allocation of Pacific whiting. At the start of 2017, the MS and C/P sectors of the Pacific whiting fishery were allocated 9.0 mt and 12.7 mt of POP, respectively, per regulations at § 660.55(c)(1)(i)(B). The limited availability of overfished species that can be taken as incidental catch in the Pacific whiting fisheries, particularly darkblotched rockfish and POP, led NMFS to implement sector-specific allocations for these species to the Pacific whiting fisheries. If the sector-specific allocation for a non-whiting species is reached, NMFS may close one or more of the at-sea sectors automatically, per regulations at § 660.60(d).

To accommodate movement of the at-sea fleets farther north, away from Klamath River Chinook and into waters with historically higher bycatch rates of POP, the Council considered moving POP quota that would otherwise go unharvested in the incidental open access fishery (primarily the pink shrimp fishery) to the MS and C/P sectors. The Council's intent is to maintain 2017 harvest opportunities for the MS and C/P sectors of the Pacific whiting fishery, while protecting Klamath River Chinook. At the start of 2017 a total of 49.4 mt of POP was deducted off-the-top from the ACL, including 10 mt to account for mortality in the incidental open access fishery.

The Council also considered best available information regarding mortality levels of POP in the incidental open access fishery to evaluate whether all 49.4 mt would be taken in 2017, and if any of those fish that would go unharvested and could be transferred to the MS and C/P sectors inseason to accommodate higher POP bycatch if the fleet moves north to avoid Chinook. Mortality of POP in the incidental open access fisheries in 2011-2013 was below 0.6 mt per year, with uncharacteristically high mortality in 2014 of 10 mt. However, mortality of rockfish in the pink shrimp trawl fishery reduced dramatically again in 2015, with an estimated POP mortality of 0.3 mt. Following a 2014 research study, it is likely that use of light emitting diode (LED) lights in the pink shrimp fishery has become widespread. When LED lights were affixed to the shrimp trawl gear, the 2014 study showed a drastic reduction in bycatch of rockfish, which is supported by 2015 total mortality estimates. Therefore, it is likely that mortality of POP in the incidental open access fishery will be less than 1 mt in 2017.

Therefore, the Council recommended and NMFS is implementing a redistribution of 7 mt of POP, from the off-the-top deductions that were made at the start of the 2017-2018 biennium, to the MS and C/P sectors, 3.5 mt to each sector, to accommodate potential bycatch of POP as each sector prosecutes their 2017 Pacific whiting allocations in areas where bycatch of Klamath River Chinook is less likely.

This rule redistributes 7 mt of POP that is anticipated to go unharvested in the incidental open access fisheries through the end of 2017 to the MS and C/P sectors, implementing the Council's recommendation to increase the POP set-asides to 12.5 mt for the MS sector and 16.2 mt for the C/P sector, and providing the fleet added flexibility to fish in areas where Klamath River Chinook are less likely to be encountered while reducing the risk of closure of the MS and C/P sectors prior to full attainment of the Pacific whiting allocation if higher bycatch rates of POP occur as expected in 2017. Mortality of POP in the incidental open access fishery was lower than anticipated in 2015, and the projected mortality for 2017 indicates it will be within the remaining 3 mt off-the-top deduction after transferring the 7 mt to the MS and C/P sectors. Transfer of POP to the MS and C/P sectors, when combined with projected impacts from all other sources, is not expected to result in greater impacts to POP or other overfished species than originally projected through the end of the year.

Open Access (OA) Sablefish Daily Trip Limit (DTL) Fisheries North of 36° N. Lat.

To increase harvest opportunities for OA fixed gear sablefish DTL fisheries north of 36° N. lat., the Council considered increases to trip limits. The Council's Groundfish Management Team (GMT) made model-based landings projections for the OA fixed gear sablefish DTL fishery north of 36° N. lat. for the remainder of the year. These projections were based on the most recent information available. The model predicted harvest of 80 percent (338 mt) of the OA harvest guideline (HG) (425 mt) under current trip limits. This indicated that projected catch in the OA fishery was lower than anticipated when the trip limits were initially established (98 percent (418 mt) of the OA HG). With the increase in trip limits, predicted harvest is 90 percent (382 mt) of the OA HG (425 mt). Projections for the limited entry fixed gear fishery north of 36° N. lat. and for fixed gear sablefish fisheries south of 36° N. lat. were similar to levels anticipated in the biennial harvest specifications and management measures, and no requests were made by industry for changes; therefore, and no inseason actions were considered. This increase in trip limits does not change projected impacts to co-occurring overfished species, as the projected impacts to those species assume that the entire sablefish ACL is harvested.

Therefore, the Council recommended and NMFS is implementing trip limit changes for the OA sablefish DTL fishery north of 36° N. lat. The trip limits for sablefish in the OA fishery north of 36° N. lat. are increased from “300 lb (136 kg) per day, or one landing per week of up to 900 lb (408 kg), not to exceed 1,800 lb (817 kg) per two months” to “300 lb (136 kg) per day, or one landing per week of up to 1,000 lb (454 kg), not to exceed 2,000 lb (907 kg) per two months” during period 3 through the end of the year.

Classification

This final rule makes routine inseason adjustments to groundfish fishery management measures, based on the best available information, consistent with the PCGFMP and its implementing regulations.

This action is taken under the authority of 50 CFR 660.60(c) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that this final rule may become effective May 12, 2017. The adjustments to management measures in this document affect commercial fisheries in Washington, Oregon and California. No aspect of this action is controversial, and changes of this nature were anticipated in the biennial harvest specifications and management measures established for 2017-2018.

Accordingly, for the reasons stated below, NMFS finds good cause to waive prior notice and comment and to waive the delay in effectiveness.

Transferring POP to the MS and C/P Sectors

At the April 2017 Council meeting, the Council recommended that the redistribution of POP to the MS and C/P sectors and be implemented as quickly as possible to facilitate fishing for Pacific whiting in northern waters to avoid bycatch of Klamath River Chinook salmon. There was not sufficient time after that meeting to undergo proposed and final rulemaking before this action needs to be in effect. Affording the time necessary for prior notice and opportunity for public comment would postpone transfer of POP to the MS and C/P sectors until later in the season, or potentially eliminate the possibility of doing so during the 2017 calendar year entirely, and is therefore impractical. Failing to reapportion POP to the MS and C/P sectors in a timely manner could result in additional impacts to Klamath River Chinook salmon if catch of POP approaches the MS or C/P sectors POP allocations and the fleet moves south to prevent a closure prior to their Pacific whiting allocations being harvested. It could also disproportionally disadvantage vessels that fish early in the season because raising the allocation during the season only benefits vessels fishing after the reapportionment. The 2015 West Coast Groundfish Observer Program groundfish mortality report, released over winter, indicated that harvest of POP in the pink shrimp fishery was much lower in 2015 than in 2014 and supports anecdotal information that the impacts of this fishery on rockfish has decreased due to recent gear modifications. Therefore, new information and analyses available to the Council in April indicate that over 7 mt of POP will go unharvested in the incidental open access fishery and could be redistributed per regulations at § 660.60(c)(3)(ii).

It is in the public interest for the MS and C/P sector fishermen to have an opportunity to harvest their limits of Pacific whiting without interruption and without exceeding their POP bycatch limits because the Pacific whiting fishery contributes a large amount of revenue to the coastal communities of Washington and Oregon. This action facilitates fleet dynamics to avoid bycatch of Klamath River Chinook salmon, allows continued harvest of Pacific whiting, and allows harvest as intended by the Council, consistent with the best scientific information available.

OA Sablefish DTL Fisheries North of 36° N. Lat.

At the April 2017 Council meeting, the Council recommended an increase to OA sablefish trip limits be implemented as quickly as possible to allow harvest of sablefish to approach but not exceed the 2017 ACL. There was not sufficient time after that meeting to undergo proposed and final rulemaking before this action needs to be in effect. Affording the time necessary for prior notice and opportunity for public comment would prevent NMFS from managing the OA sablefish DTL fishery using the best available science to approach, without exceeding, the ACLs for federally managed species in accordance with the PCGFMP and applicable law. These increases to trip limits must be implemented as quickly as possible during the two-month cumulative limit period to allow OA fixed gear fishermen an opportunity to harvest higher limits for sablefish without exceeding the ACL north of 36° N. lat.

It is in the public interest for fishermen to have an opportunity to harvest the sablefish ACL north of 36° N. lat. because the sablefish fishery contributes revenue to the coastal communities of Washington, Oregon, and California. This action, if implemented quickly, is anticipated to allow catch of sablefish through the end of the year to approach but not exceed the ACL, and allows harvest as intended by the Council, consistent with the best scientific information available.

List of Subjects in 50 CFR Part 660

Fisheries, Fishing, Indian fisheries.

Dated: May 11, 2017.
Karen H. Abrams,
Acting Deputy Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Tables 1a and 1b to part 660, subpart C, are revised to read as follows:

ᵃ Annual catch limits (ACLs), annual catch targets (ACTs) and harvest guidelines (HGs) are specified as total catch values.

ᵇ Fishery harvest guidelines means the harvest guideline or quota after subtracting Pacific Coast treaty Indian tribes allocations and projected catch, projected research catch, deductions for fishing mortality in non-groundfish fisheries, and deductions for EFPs from the ACL or ACT.

ᶜ Bocaccio. A stock assessment was conducted in 2015 for the bocaccio stock between the U.S.-Mexico border and Cape Blanco. The stock is managed with stock-specific harvest specifications south of 40°10′ N. lat. and within the Minor Shelf Rockfish complex north of 40°10′ N. lat. A historical catch distribution of approximately 7.4 percent was used to apportion the assessed stock to the area north of 40°10′ N. lat. The bocaccio stock was estimated to be at 36.8 percent of its unfished biomass in 2015. The OFL of 2,139 mt is projected in the 2015 stock assessment using an FMSY proxy of F50%. The ABC of 2,044 mt is a 4.4 percent reduction from the OFL (σ=0.36/P*=0.45) because it is a category 1 stock. The 790 mt ACL is based on the current rebuilding plan with a target year to rebuild of 2022 and an SPR harvest rate of 77.7 percent. 15.4 mt is deducted from the ACL to accommodate the incidental open access fishery (0.8 mt), EFP catch (10 mt) and research catch (4.6 mt), resulting in a fishery HG of 774.6 mt. The California recreational fishery has an HG of 326.1 mt.

ᵈ Cowcod. A stock assessment for the Conception Area was conducted in 2013 and the stock was estimated to be at 33.9 percent of its unfished biomass in 2013. The Conception Area OFL of 58 mt is projected in the 2013 rebuilding analysis using an FMSY proxy of F50%. The OFL contribution of 12 mt for the unassessed portion of the stock in the Monterey area is based on depletion-based stock reduction analysis. The OFLs for the Monterey and Conception areas were summed to derive the south of 40°10′ N. lat. OFL of 70 mt. The ABC for the area south of 40°10′ N. lat. is 63 mt. The assessed portion of the stock in the Conception Area is considered category 2, with a Conception area contribution to the ABC of 53 mt, which is an 8.7 percent reduction from the Conception area OFL (σ=0.72/P*=0.45). The unassessed portion of the stock in the Monterey area is considered a category 3 stock, with a contribution to the ABC of 10 mt, which is a 16.6 percent reduction from the Monterey area OFL (σ=1.44/P*=0.45). A single ACL of 10 mt is being set for both areas combined. The ACL of 10 mt is based on the rebuilding plan with a target year to rebuild of 2020 and an SPR harvest rate of 82.7 percent, which is equivalent to an exploitation rate (catch over age 11 + biomass) of 0.007. 2 mt is deducted from the ACL to accommodate the incidental open access fishery (less than 0.1 mt), EFP fishing (less than 0.1 mt) and research activity (2 mt), resulting in a fishery HG of 8 mt. Any additional mortality in research activities will be deducted from the ACL. A single ACT of 4 mt is being set for both areas combined.

ᵉ Darkblotched rockfish. A 2015 stock assessment estimated the stock to be at 39 percent of its unfished biomass in 2015. The OFL of 671 mt is projected in the 2015 stock assessment using an FMSY proxy of F50%. The ABC of 641 mt is a 4.4 percent reduction from the OFL (σ=0.36/P*=0.45) because it is a category 1 stock. The ACL is set equal to the ABC, as the stock is projected to be above its target biomass of B40% in 2017. 77.3 mt is deducted from the ACL to accommodate the Tribal fishery (0.2 mt), the incidental open access fishery (24.5 mt), EFP catch (0.1 mt), research catch (2.5 mt) and an additional deduction for unforeseen catch events (50 mt), resulting in a fishery HG of 563.8 mt.

ᶠ Pacific ocean perch. A stock assessment was conducted in 2011 and the stock was estimated to be at 19.1 percent of its unfished biomass in 2011. The OFL of 964 mt for the area north of 40°10′ N. lat. is based on an updated catch-only projection of the 2011 rebuilding analysis using an F50% FMSY proxy. The ABC of 922 mt is a 4.4 percent reduction from the OFL (σ=0.36/P*=0.45) because it is a category 1 stock. The ACL is based on the current rebuilding plan with a target year to rebuild of 2051 and a constant catch amount of 281 mt in 2017 and 2018, followed in 2019 and beyond by ACLs based on an SPR harvest rate of 86.4 percent. 49.4 mt is deducted from the ACL to accommodate the Tribal fishery (9.2 mt), the incidental open access fishery (10 mt), research catch (5.2 mt) and an additional deduction for unforeseen catch events (25 mt), resulting in a fishery HG of 231.6 mt. Of the 10 mt initially deducted from the ACL to account for mortality in the incidental open access fishery, a total of 7 mt is distributed to the mothership and catcher/processor sectors inseason, 3.5 mt to each sector consistent with § 660.60(c)(3)(ii), resulting in a 3 mt deduction from the ACL for mortality in the incidental open access fishery.

ᵍ Yelloweye rockfish. A stock assessment update was conducted in 2011. The stock was estimated to be at 21.4 percent of its unfished biomass in 2011. The 57 mt coastwide OFL is based on a catch-only update of the 2011 stock assessment, assuming actual catches since 2011 and using an FMSY proxy of F50%. The ABC of 47 mt is a 16.7 percent reduction from the OFL (σ=0.72/P*=0.40) because it is a category 2 stock. The 20 mt ACL is based on the current rebuilding plan with a target year to rebuild of 2074 and an SPR harvest rate of 76.0 percent. 5.4 mt is deducted from the ACL to accommodate the Tribal fishery (2.3 mt), the incidental open access fishery (0.4 mt), EFP catch (less than 0.1 mt) and research catch (2.7 mt), resulting in a fishery HG of 14.6 mt. Recreational HGs are: 3.3 mt (Washington); 3 mt (Oregon); and 3.9 mt (California).

ʰ Arrowtooth flounder. The arrowtooth flounder stock was last assessed in 2007 and was estimated to be at 79 percent of its unfished biomass in 2007. The OFL of 16,571 mt is derived from a catch-only update of the 2007 stock assessment assuming actual catches since 2007 and using an F30% FMSY proxy. The ABC of 13,804 mt is a 16.7 percent reduction from the OFL (σ=0.72/P*=0.40) because it is a category 2 stock. The ACL is set equal to the ABC because the stock is above its target biomass of B25%. 2,098.1 mt is deducted from the ACL to accommodate the Tribal fishery (2,041 mt), the incidental open access fishery (40.8 mt), and research catch (16.4 mt), resulting in a fishery HG of 11,705.9 mt.

ⁱ Big skate. The OFL of 541 mt is based on an estimate of trawl survey biomass and natural mortality. The ABC of 494 mt is an 8.7 percent reduction from the OFL (σ=0.72/P*=0.45) as it is a category 2 stock. The ACL is set equal to the ABC. 57.4 mt is deducted from the ACL to accommodate the Tribal fishery (15 mt), the incidental open access fishery (38.4 mt), and research catch (4 mt), resulting in a fishery HG of 436.6 mt.

ʲ Black rockfish (California). A 2015 stock assessment estimated the stock to be at 33 percent of its unfished biomass in 2015. The OFL of 349 mt is projected in the 2015 stock assessment using an FMSY proxy of F50%. The ABC of 334 mt is a 4.4 percent reduction from the OFL (σ=0.36/P*=0.45) because it is a category 1 stock. The ACL is set equal to the ABC because the stock is projected to be above its target biomass of B40% in 2017. 1 mt is deducted from the ACL to accommodate EFP catch (1 mt), resulting in a fishery HG of 333 mt.

ᵏ Black rockfish (Oregon). A 2015 stock assessment estimated the stock to be at 60 percent of its unfished biomass in 2015. The OFL of 577 mt is projected in the 2015 stock assessment using an FMSY proxy of F50%. The ABC of 527 mt is an 8.7 percent reduction from the OFL (σ=0.72/P*=0.45) because it is a category 2 stock. The ACL is set equal to the ABC because the stock is above its target biomass of B40%. 0.6 mt is deducted from the ACL to accommodate the incidental open access fishery (0.6 mt), resulting in a fishery HG of 526.4 mt.

ˡ Black rockfish (Washington). A 2015 stock assessment estimated the stock to be at 43 percent of its unfished biomass in 2015. The OFL of 319 mt is projected in the 2015 stock assessment using an FMSY proxy of F50%. The ABC of 305 mt is a 4.4 percent reduction from the OFL (σ=0.36/P*=0.45) because it is a category 1 stock. The ACL is set equal to the ABC because the stock is above its target biomass of B40%. 18 mt is deducted from the ACL to accommodate the Tribal fishery, resulting in a fishery HG of 287 mt.

ᵐ Blackgill rockfish. Blackgill rockfish contributes to the harvest specifications for the Minor Slope Rockfish South complex. See footnote pp.

ⁿ Cabezon (California). A cabezon stock assessment was conducted in 2009. The cabezon spawning biomass in waters off California was estimated to be at 48.3 percent of its unfished biomass in 2009. The OFL of 157 mt is calculated using an FMSY proxy of F45%. The ABC of 150 mt is based on a 4.4 percent reduction from the OFL (σ=0.36/P*=0.45) because it is a category 1 stock. The ACL is set equal to the ABC because the stock is above its target biomass of B40%. 0.3 mt is deducted from the ACL to accommodate the incidental open access fishery, resulting in a fishery HG of 149.7 mt.

ᵒ Cabezon (Oregon). A cabezon stock assessment was conducted in 2009. The cabezon spawning biomass in waters off Oregon was estimated to be at 52 percent of its unfished biomass in 2009. The OFL of 49 mt is calculated using an FMSY proxy of F45%. The ABC of 47 mt is based on a 4.4 percent reduction from the OFL (σ=0.36/P*=0.45) because it is a category 1 species. The ACL is set equal to the ABC because the stock is above its target biomass of B40%. There are no deductions from the ACL so the fishery HG is also equal to the ACL of 47 mt.

ᵖ California scorpionfish. A California scorpionfish assessment was conducted in 2005 and was estimated to be at 79.8 percent of its unfished biomass in 2005. The OFL of 289 mt is based on projections from a catch-only update of the 2005 assessment assuming actual catches since 2005 and using an FMSY harvest rate proxy of F50%. The ABC of 264 mt is an 8.7 percent reduction from the OFL (σ=0.72/P*=0.45) because it is a category 2 stock. The ACL is set at a constant catch amount of 150 mt. 2.2 mt is deducted from the ACL to accommodate the incidental open access fishery (2 mt) and research catch (0.2 mt), resulting in a fishery HG of 147.8 mt. An ACT of 111 mt is established.

q Canary rockfish. A stock assessment was conducted in 2015 and the stock was estimated to be at 55.5 percent of its unfished biomass coastwide in 2015. The coastwide OFL of 1,793 mt is projected in the 2015 assessment using an FMSY harvest rate proxy of F50%. The ABC of 1,714 mt is a 4.4 percent reduction from the OFL (σ=0.36/P*=0.45) because it is a category 1 stock. The ACL is set equal to the ABC because the stock is above its target biomass of B40%. 247 mt is deducted from the ACL to accommodate the Tribal fishery (50 mt), the incidental open access fishery (1.2 mt), EFP catch (1 mt), research catch (7.2 mt), and an additional deduction for unforeseen catch events (188 mt), resulting in a fishery HG of 1,466.6 mt. Recreational HGs are: 50 mt (Washington); 75 mt (Oregon); and 135 mt (California).

ʳ Chilipepper. A coastwide update assessment of the chilipepper stock was conducted in 2015 and estimated to be at 64 percent of its unfished biomass in 2015. Chilipepper are managed with stock-specific harvest specifications south of 40°10′ N. lat. and within the Minor Shelf Rockfish complex north of 40°10′ N. lat. Projected OFLs are stratified north and south of 40°10′ N. lat. based on the average historical assessed area catch, which is 93 percent for the area south of 40°10′ N. lat. and 7 percent for the area north of 40°10′ N. lat. The OFL of 2,727 mt for the area south of 40°10′ N. lat. is projected in the 2015 assessment using an FMSY proxy of F50%. The ABC of 2,607 mt is a 4.4 percent reduction from the OFL (σ=0.36/P*=0.45) because it is a category 1 stock. The ACL is set equal to the ABC because the stock is above its target biomass of B40%. 45.9 mt is deducted from the ACL to accommodate the incidental open access fishery (5 mt), EFP fishing (30 mt), and research catch (10.9 mt), resulting in a fishery HG of 2,561.1 mt.

ˢ Dover sole. A 2011 Dover sole assessment estimated the stock to be at 83.7 percent of its unfished biomass in 2011. The OFL of 89,702 mt is based on an updated catch-only projection from the 2011 stock assessment assuming actual catches since 2011 and using an FMSY proxy of F30%. The ABC of 85,755 mt is a 4.4 percent reduction from the OFL (σ=0.36/P*=0.45) because it is a category 1 stock. The ACL could be set equal to the ABC because the stock is above its target biomass of B25%. However, the ACL of 50,000 mt is set at a level below the ABC and higher than the maximum historical landed catch. 1,593.7 mt is deducted from the ACL to accommodate the Tribal fishery (1,497 mt), the incidental open access fishery (54.8 mt), and research catch (41.9 mt), resulting in a fishery HG of 48,406.3 mt.

ᵗ English sole. A 2013 stock assessment was conducted, which estimated the stock to be at 88 percent of its unfished biomass in 2013. The OFL of 10,914 mt is projected in the 2013 assessment using an FMSY proxy of F30%. The ABC of 9,964 mt is an 8.7 percent reduction from the OFL (σ=0.72/P*=0.45) because it is a category 2 stock. The ACL is set equal to the ABC because the stock is above its target biomass of B25%. 212.8 mt is deducted from the ACL to accommodate the Tribal fishery (200 mt), the incidental open access fishery (7.0 mt) and research catch (5.8 mt), resulting in a fishery HG of 9,751.2 mt.

ᵘ Lingcod north. The 2009 lingcod assessment modeled two populations north and south of the California-Oregon border (42° N. lat.). Both populations were healthy with stock depletion estimated at 62 and 74 percent for the north and south, respectively in 2009. The OFL is based on an updated catch-only projection from the 2009 assessment assuming actual catches since 2009 and using an FMSY proxy of F45%. The OFL is apportioned north of 40°10′ N. lat. by adding 48% of the OFL from California, resulting in an OFL of 3,549 mt for the area north of 40°10′ N. lat. The ABC of 3,333 mt is based on a 4.4 percent reduction (σ=0.36/P*=0.45) from the OFL contribution for the area north of 42° N. lat. because it is a category 1 stock, and an 8.7 percent reduction (σ=0.72/P*=0.45) from the OFL contribution for the area between 42° N. lat. and 40°10′ N. lat. because it is a category 2 stock. The ACL is set equal to the ABC because the stock is above its target biomass of B40%. 278.2 mt is deducted from the ACL for the Tribal fishery (250 mt), the incidental open access fishery (16 mt), EFP catch (0.5 mt) and research catch (11.7 mt), resulting in a fishery HG of 3,054.8 mt.

ᵛ Lingcod south. The 2009 lingcod assessment modeled two populations north and south of the California-Oregon border (42° N. lat.). Both populations were healthy with stock depletion estimated at 62 and 74 percent for the north and south, respectively in 2009. The OFL is based on an updated catch-only projection of the 2009 stock assessment assuming actual catches since 2009 using an FMSY proxy of F45%. The OFL is apportioned by subtracting 48% of the California OFL, resulting in an OFL of 1,502 mt for the area south of 40°10′ N. lat. The ABC of 1,251 mt is based on a 16.7 percent reduction from the OFL (σ=0.72/P*=0.40) because it is a category 2 stock. The ACL is set equal to the ABC because the stock is above its target biomass of B40%. 9 mt is deducted from the ACL to accommodate the incidental open access fishery (6.9 mt), EFP fishing (1 mt), and research catch (1.1 mt), resulting in a fishery HG of 1,242 mt.

ʷ Longnose skate. A stock assessment was conducted in 2007 and the stock was estimated to be at 66 percent of its unfished biomass. The OFL of 2,556 mt is derived from the 2007 stock assessment using an FMSY proxy of F50%. The ABC of 2,444 mt is a 4.4 percent reduction from the OFL (σ=0.36/P*=0.45) because it is a category 1 stock. The ACL of 2,000 mt is a fixed harvest level that provides greater access to the stock and is less than the ABC. 147 mt is deducted from the ACL to accommodate the Tribal fishery (130 mt), incidental open access fishery (3.8 mt), and research catch (13.2 mt), resulting in a fishery HG of 1,853 mt.

ˣ Longspine thornyhead. A 2013 longspine thornyhead coastwide stock assessment estimated the stock to be at 75 percent of its unfished biomass in 2013. A coastwide OFL of 4,571 mt is projected in the 2013 stock assessment using an F50% FMSY proxy. The coastwide ABC of 3,808 mt is a 16.7 percent reduction from the OFL (σ=0.72/P*=0.40) because it is a category 2 stock. For the portion of the stock that is north of 34°27′ N. lat., the ACL is 2,894 mt, and is 76 percent of the coastwide ABC based on the average swept-area biomass estimates (2003-2012) from the NMFS NWFSC trawl survey. 46.8 mt is deducted from the ACL to accommodate the Tribal fishery (30 mt), the incidental open access fishery (3.3 mt), and research catch (13.5 mt), resulting in a fishery HG of 2,847.2 mt. For that portion of the stock south of 34°27′ N. lat. the ACL is 914 mt and is 24 percent of the coastwide ABC based on the average swept-area biomass estimates (2003-2012) from the NMFS NWFSC trawl survey. 3.2 mt is deducted from the ACL to accommodate the incidental open access fishery (1.8 mt), and research catch (1.4 mt), resulting in a fishery HG of 910.8 mt.

ʸ Pacific cod. The 3,200 mt OFL is based on the maximum level of historic landings. The ABC of 2,221 mt is a 30.6 percent reduction from the OFL (σ=1.44/P*=0.40) because it is a category 3 stock. The 1,600 mt ACL is the OFL reduced by 50 percent as a precautionary adjustment. 509 mt is deducted from the ACL to accommodate the Tribal fishery (500 mt), research catch (7 mt), and the incidental open access fishery (2 mt), resulting in a fishery HG of 1,091 mt.

ᶻ Pacific whiting. The coastwide (U.S. and Canada) stock assessment was published in 2017 and estimated the spawning stock to be at 89 percent of its unfished biomass. The 2017 coastwide OFL of 969,840 mt is based on the 2017 assessment with an F40% FMSY proxy. The 2017 coastwide, unadjusted Total Allowable Catch (TAC) of 531,501 mt is based on the 2017 stock assessment and the recommendation by the Joint Management Committee (JMC), based on a precautionary approach. The U.S. TAC is 73.88 percent of the coastwide TAC, or 392,673 mt unadjusted TAC for 2017. 15 percent of each party's unadjusted 2016 TAC (48,760 mt for the U.S.) is added to each party's 2017 unadjusted TAC, resulting in a U.S. adjusted 2017 TAC of 431,433 mt. The 2017 fishery HG for Pacific whiting is 362,682 mt. This amount was determined by deducting from the total U.S. TAC of 431,433 mt, the 77,251 mt tribal allocation, along with 1,500 mt for scientific research catch and fishing mortality in non-groundfish fisheries.

ᵃᵃ Petrale sole. A 2015 stock assessment update was conducted, which estimated the stock to be at 31 percent of its unfished biomass in 2015. The OFL of 3,280 mt is projected in the 2015 assessment using an FMSY proxy of F30%. The ABC of 3,136 mt is a 4.4 percent reduction from the OFL (σ=0.36/P*=0.45) because it is a category 1 stock. The ACL is set equal to the ABC because the stock is above its target biomass of B25%. 240.9 mt is deducted from the ACL to accommodate the Tribal fishery (220 mt), the incidental open access fishery (3.2 mt) and research catch (17.7 mt), resulting in a fishery HG of 2,895.1 mt.

ᵇᵇ Sablefish north. A coastwide sablefish stock assessment update was conducted in 2015. The coastwide sablefish biomass was estimated to be at 33 percent of its unfished biomass in 2015. The coastwide OFL of 8,050 mt is projected in the 2015 stock assessment using an FMSY proxy of F45%. The ABC of 7,350 mt is an 8.7 percent reduction from the OFL (σ=0.36/P*=0.40). The 40-10 adjustment is applied to the ABC to derive a coastwide ACL value because the stock is in the precautionary zone. This coastwide ACL value is not specified in regulations. The coastwide ACL value is apportioned north and south of 36° N. lat., using the 2003-2014 average estimated swept area biomass from the NMFS NWFSC trawl survey, with 73.8 percent apportioned north of 36° N. lat. and 26.2 percent apportioned south of 36° N. lat. The northern ACL is 5,252 mt and is reduced by 525 mt for the Tribal allocation (10 percent of the ACL north of 36° N. lat.). The 525 mt Tribal allocation is reduced by 1.5 percent to account for discard mortality. Detailed sablefish allocations are shown in Table 1c.

ᶜᶜ Sablefish south. The ACL for the area south of 36° N. lat. is 1,864 mt (26.2 percent of the calculated coastwide ACL value). 5 mt is deducted from the ACL to accommodate the incidental open access fishery (2 mt) and research catch (3 mt), resulting in a fishery HG of 1,859 mt.

ᵈᵈ Shortbelly rockfish. A non-quantitative shortbelly rockfish assessment was conducted in 2007. The spawning stock biomass of shortbelly rockfish was estimated to be 67 percent of its unfished biomass in 2005. The OFL of 6,950 mt is based on the estimated MSY in the 2007 stock assessment. The ABC of 5,789 mt is a 16.7 percent reduction of the OFL (σ=0.72/P*=0.40) because it is a category 2 stock. The 500 mt ACL is set to accommodate incidental catch when fishing for co-occurring healthy stocks and in recognition of the stock's importance as a forage species in the California Current ecosystem. 10.9 mt is deducted from the ACL to accommodate the incidental open access fishery (8.9 mt) and research catch (2 mt), resulting in a fishery HG of 489.1 mt.

ᵉᵉ Shortspine thornyhead. A 2013 coastwide shortspine thornyhead stock assessment estimated the stock to be at 74.2 percent of its unfished biomass in 2013. A coastwide OFL of 3,144 mt is projected in the 2013 stock assessment using an F50% FMSY proxy. The coastwide ABC of 2,619 mt is a 16.7 percent reduction from the OFL (σ=0.72/P*=0.40) because it is a category 2 stock. For the portion of the stock that is north of 34°27′ N. lat., the ACL is 1,713 mt. The northern ACL is 65.4 percent of the coastwide ABC based on the average swept-area biomass estimates (2003-2012) from the NMFS NWFSC trawl survey. 59 mt is deducted from the ACL to accommodate the Tribal fishery (50 mt), the incidental open access fishery (1.8 mt), and research catch (7.2 mt), resulting in a fishery HG of 1,654 mt for the area north of 34°27′ N. lat. For that portion of the stock south of 34°27′ N. lat. the ACL is 906 mt. The southern ACL is 34.6 percent of the coastwide ABC based on the average swept-area biomass estimates (2003-2012) from the NMFS NWFSC trawl survey. 42.3 mt is deducted from the ACL to accommodate the incidental open access fishery (41.3 mt) and research catch (1 mt), resulting in a fishery HG of 863.7 mt for the area south of 34°27′ N. lat.

ᶠᶠ Spiny dogfish. A coastwide spiny dogfish stock assessment was conducted in 2011. The coastwide spiny dogfish biomass was estimated to be at 63 percent of its unfished biomass in 2011. The coastwide OFL of 2,514 mt is derived from the 2011 assessment using an FMSY proxy of F50%. The coastwide ABC of 2,094 mt is a 16.7 percent reduction from the OFL (σ=0.72/P*=0.40) because it is a category 2 stock. The ACL is set equal to the ABC because the stock is above its target biomass of B40%. 338 mt is deducted from the ACL to accommodate the Tribal fishery (275 mt), the incidental open access fishery (49.5 mt), EFP catch (1 mt), and research catch (12.5 mt), resulting in a fishery HG of 1,756 mt.

ᵍᵍ Splitnose rockfish. A coastwide splitnose rockfish assessment was conducted in 2009 that estimated the stock to be at 66 percent of its unfished biomass in 2009. Splitnose rockfish in the north is managed in the Minor Slope Rockfish complex and with stock-specific harvest specifications south of 40°10′ N. lat. The coastwide OFL is projected in the 2009 assessment using an FMSY proxy of F50%. The coastwide OFL is apportioned north and south of 40°10′ N. lat. based on the average 1916-2008 assessed area catch, resulting in 64.2 percent of the coastwide OFL apportioned south of 40°10′ N. lat., and 35.8 percent apportioned for the contribution of splitnose rockfish to the northern Minor Slope Rockfish complex. The southern OFL of 1,841 mt results from the apportionment described above. The southern ABC of 1,760 mt is a 4.4 percent reduction from the southern OFL (σ=0.36/P*=0.45) because it is a category 1 stock. The ACL is set equal to the ABC because the stock is estimated to be above its target biomass of B40%. 10.7 mt is deducted from the ACL to accommodate the incidental open access fishery (0.2 mt), research catch (9 mt) and EFP catch (1.5 mt), resulting in a fishery HG of 1,749.3 mt.

ʰʰ Starry flounder. The stock was assessed in 2005 and was estimated to be above 40 percent of its unfished biomass in 2005 (44 percent in Washington and Oregon, and 62 percent in California). The coastwide OFL of 1,847 mt is set equal to the 2016 OFL, which was derived from the 2005 assessment using an FMSY proxy of F30%. The ABC of 1,282 mt is a 30.6 percent reduction from the OFL (σ=1.44/P*=0.40) because it is a category 3 stock. The ACL is set equal to the ABC because the stock was estimated to be above its target biomass of B25% in 2017. 10.3 mt is deducted from the ACL to accommodate the Tribal fishery (2 mt), and the incidental open access fishery (8.3 mt), resulting in a fishery HG of 1,271.7 mt.

ⁱⁱ Widow rockfish. The widow rockfish stock was assessed in 2015 and was estimated to be at 75 percent of its unfished biomass in 2015. The OFL of 14,130 mt is projected in the 2015 stock assessment using the F50% FMSY proxy. The ABC of 13,508 mt is a 4.4 percent reduction from the OFL (σ=0.36/P*=0.45) because it is a category 1 stock. The ACL is set equal to the ABC because the stock is above its target biomass of B40%. 217.7 mt is deducted from the ACL to accommodate the Tribal fishery (200 mt), the incidental open access fishery (0.5 mt), EFP catch (9 mt) and research catch (8.2 mt), resulting in a fishery HG of 13,290.3 mt.

ʲʲ Yellowtail rockfish. A 2013 yellowtail rockfish stock assessment was conducted for the portion of the population north of 40°10′ N. lat. The estimated stock depletion was 67 percent of its unfished biomass in 2013. The OFL of 6,786 mt is projected in the 2013 stock assessment using an FMSY proxy of F50%. The ABC of 6,196 mt is an 8.7 percent reduction from the OFL (σ=0.72/P*=0.45) because it is a category 2 stock. The ACL is set equal to the ABC because the stock is above its target biomass of B40%. 1,030 mt is deducted from the ACL to accommodate the Tribal fishery (1,000 mt), the incidental open access fishery (3.4 mt), EFP catch (10 mt) and research catch (16.6 mt), resulting in a fishery HG of 5,166.1 mt.

ᵏᵏ Minor Nearshore Rockfish north. The OFL for Minor Nearshore Rockfish north of 40°10′ N. lat. of 118 mt is the sum of the OFL contributions for the component species managed in the complex. The ABCs for the minor rockfish complexes are based on a sigma value of 0.72 for category 2 stocks (blue/deacon rockfish in California, brown rockfish, China rockfish, and copper rockfish) and a sigma value of 1.44 for category 3 stocks (all others) with a P* of 0.45. The resulting ABC of 105 mt is the summed contribution of the ABCs for the component species. The ACL of 105 mt is the sum of contributing ABCs of healthy assessed stocks and unassessed stocks, plus the ACL contributions for blue/deacon rockfish in California where the 40-10 adjustment was applied to the ABC contribution for this stock because it is in the precautionary zone. 1.8 mt is deducted from the ACL to accommodate the Tribal fishery (1.5 mt) and the incidental open access fishery (0.3 mt), resulting in a fishery HG of 103.2 mt. Between 40°10′ N. lat. and 42° N. lat. the Minor Nearshore Rockfish complex north has a harvest guideline of 40.2 mt. Blue/deacon rockfish south of 42° N. lat. has a stock-specific HG, described in footnote nn.

ˡˡ Minor Shelf Rockfish north. The OFL for Minor Shelf Rockfish north of 40°10′ N. lat. of 2,303 mt is the sum of the OFL contributions for the component species within the complex. The ABCs for the minor rockfish complexes are based on a sigma value of 0.36 for a category 1 stock (chilipepper), a sigma value of 0.72 for category 2 stocks (greenspotted rockfish between 40°10′ and 42° N. lat. and greenstriped rockfish), and a sigma value of 1.44 for category 3 stocks (all others) with a P* of 0.45. The resulting ABC of 2,049 mt is the summed contribution of the ABCs for the component species. The ACL of 2,049 mt is the sum of contributing ABCs of healthy assessed stocks and unassessed stocks, plus the ACL contribution of greenspotted rockfish in California where the 40-10 adjustment was applied to the ABC contribution for this stock because it is in the precautionary zone. 83.8 mt is deducted from the ACL to accommodate the Tribal fishery (30 mt), the incidental open access fishery (26 mt), EFP catch (3 mt), and research catch (24.8 mt), resulting in a fishery HG of 1,965.2 mt.

ᵐᵐ Minor Slope Rockfish north. The OFL for Minor Slope Rockfish north of 40°10′ N. lat. of 1,897 mt is the sum of the OFL contributions for the component species within the complex. The ABCs for the Minor Slope Rockfish complexes are based on a sigma value of 0.39 for aurora rockfish, a sigma value of 0.36 for the other category 1 stock (splitnose rockfish), a sigma value of 0.72 for category 2 stocks (rougheye rockfish, blackspotted rockfish, and sharpchin rockfish), and a sigma value of 1.44 for category 3 stocks (all others) with a P* of 0.45. A unique sigma of 0.39 was calculated for aurora rockfish because the variance in estimated spawning biomass was greater than the 0.36 used as a proxy for other category 1 stocks. The resulting ABC of 1,755 mt is the summed contribution of the ABCs for the component species. The ACL is set equal to the ABC because all the assessed component stocks (i.e., rougheye rockfish, blackspotted rockfish, sharpchin rockfish, and splitnose rockfish) are above the target biomass of B40%. 65.1 mt is deducted from the ACL to accommodate the Tribal fishery (36 mt), the incidental open access fishery (18.6 mt), EFP catch (1 mt), and research catch (9.5 mt), resulting in a fishery HG of 1,689.9 mt.

ⁿⁿ Minor Nearshore Rockfish south. The OFL for the Minor Nearshore Rockfish complex south of 40°10′ N. lat. of 1,329 mt is the sum of the OFL contributions for the component species within the complex. The ABC for the southern Minor Nearshore Rockfish complex is based on a sigma value of 0.72 for category 2 stocks (i.e., blue/deacon rockfish north of 34°27′ N. lat., brown rockfish, China rockfish, and copper rockfish) and a sigma value of 1.44 for category 3 stocks (all others) with a P* of 0.45. The resulting ABC of 1,166 mt is the summed contribution of the ABCs for the component species. The ACL of 1,163 mt is the sum of the contributing ABCs of healthy assessed stocks and unassessed stocks, plus the ACL contribution for blue/deacon rockfish north of 34°27′ N. lat. and China rockfish where the 40-10 adjustment was applied to the ABC contributions for these two stocks because they are in the precautionary zone. 4.1 mt is deducted from the ACL to accommodate the incidental open access fishery (1.4 mt) and research catch (2.7 mt), resulting in a fishery HG of 1,158.9 mt. Blue/deacon rockfish south of 42° N. lat. has a stock-specific HG set equal to the 40-10-adjusted ACL for the portion of the stock north of 34°27′ N lat. (243.7 mt) plus the ABC contribution for the unassessed portion of the stock south of 34°27′ N. lat. (60.8 mt). The California (i.e. south of 42° N. lat.) blue/deacon rockfish HG is 304.5 mt.

ᵒᵒ Minor Shelf Rockfish south. The OFL for the Minor Shelf Rockfish complex south of 40°10′ N. lat. of 1,917 mt is the sum of the OFL contributions for the component species within the complex. The ABC for the southern Minor Shelf Rockfish complex is based on a sigma value of 0.72 for category 2 stocks (greenspotted and greenstriped rockfish) and a sigma value of 1.44 for category 3 stocks (all others) with a P* of 0.45. The resulting ABC of 1,624 mt is the summed contribution of the ABCs for the component species. The ACL of 1,623 mt is the sum of contributing ABCs of healthy assessed stocks and unassessed stocks, plus the ACL contribution of greenspotted rockfish in California where the 40-10 adjustment was applied to the ABC contribution for this stock because it is in the precautionary zone. 47.2 mt is deducted from the ACL to accommodate the incidental open access fishery (8.6 mt), EFP catch (30 mt), and research catch (8.6 mt), resulting in a fishery HG of 1,575.8 mt.

ᵖᵖ Minor Slope Rockfish south. The OFL of 827 mt is the sum of the OFL contributions for the component species within the complex. The ABC for the southern Minor Slope Rockfish complex is based on a sigma value of 0.39 for aurora rockfish, a sigma value of 0.72 for category 2 stocks (blackgill rockfish, rougheye rockfish, blackspotted rockfish, and sharpchin rockfish) and a sigma value of 1.44 for category 3 stocks (all others) with a P* of 0.45. A unique sigma of 0.39 was calculated for aurora rockfish because the variance in estimated biomass was greater than the 0.36 used as a proxy for other category 1 stocks. The resulting ABC of 718 mt is the summed contribution of the ABCs for the component species. The ACL of 707 mt is the sum of the contributing ABCs of healthy assessed stocks and unassessed stocks, plus the ACL contribution of blackgill rockfish where the 40-10 adjustment was applied to the ABC contribution for this stock because it is in the precautionary zone. 20.2 mt is deducted from the ACL to accommodate the incidental open access fishery (17.2 mt), EFP catch (1 mt), and research catch (2 mt), resulting in a fishery HG of 686.8 mt. Blackgill rockfish has a stock-specific HG for the entire groundfish fishery south of 40°10′ N lat. set equal to the species' contribution to the 40-10-adjusted ACL. Harvest of blackgill rockfish in all groundfish fisheries counts against this HG of 120.2 mt. Nontrawl fisheries are subject to a blackgill rockfish HG of 44.5 mt.

qq Other Flatfish. The Other Flatfish complex is comprised of flatfish species managed in the PCGFMP that are not managed with stock-specific OFLs/ABCs/ACLs. Most of the species in the Other Flatfish complex are unassessed and include: Butter sole, curlfin sole, flathead sole, Pacific sanddab, rock sole, sand sole, and rex sole. The Other Flatfish OFL of 11,165 mt is based on the sum of the OFL contributions of the component stocks. The ABC of 8,510 mt is based on a sigma value of 0.72 for a category 2 stock (rex sole) and a sigma value of 1.44 for category 3 stocks (all others) with a P* of 0.40. The ACL is set equal to the ABC. The ACL is set equal to the ABC because all of the assessed stocks (i.e., Pacific sanddabs and rex sole) were above their target biomass of B25%. 204 mt is deducted from the ACL to accommodate the Tribal fishery (60 mt), the incidental open access fishery (125 mt), and research catch (19 mt), resulting in a fishery HG of 8,306 mt.

ʳʳ Other Fish. The Other Fish complex is comprised of kelp greenling coastwide, cabezon off Washington, and leopard shark coastwide. The 2015 assessment for the kelp greenling stock off of Oregon projected an estimated depletion of 80 percent in 2015. All other stocks are unassessed. The OFL of 537 mt is the sum of the OFL contributions for kelp greenling coastwide, cabezon off Washington, and leopard shark coastwide. The ABC for the Other Fish complex is based on a sigma value of 0.44 for kelp greenling off Oregon and a sigma value of 1.44 for category 3 stocks (all others) with a P* of 0.45. A unique sigma of 0.44 was calculated for kelp greenling off Oregon because the variance in estimated spawning biomass was greater than the 0.36 sigma used as a proxy for other category 1 stocks. The resulting ABC of 474 mt is the summed contribution of the ABCs for the component species. The ACL is set equal to the ABC because all of the assessed stocks (kelp greenling off Oregon) were above their target biomass of B40%. There are no deductions from the ACL so the fishery HG is equal to the ACL of 474 mt.

BILLING CODE 3510-22-P

* * * * *

3. Tables 3 (North) and 3 (South) to part 660, subpart F, are revised to read as follows:

[FR Doc. 2017-09877 Filed 5-12-17; 4:15 pm]

BILLING CODE 3510-22-C